DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NMFS Alaska Region Vessel Monitoring System (VMS) Program.

OMB Control Number: 0648-0445.

Form Number(s): None.

Type of Request: Regular submission.

Number of Respondents: 878.

Average Hours per Response: VMS installation, 6 hours (once every three years); maintenance, 4 hours per year; VMS activation checklist, 12 minutes (once every three years).

Burden Hours: 3,721.

Needs and Uses: Under the authority of the Magnuson-Stevens Fishery Conservation and Management Act (16 U.S.C. 1801 et seq.), National Marine Fisheries Service (NMFS), Alaska Region, directs a satellite-based vessel monitoring program to locate fishing vessels and monitor compliance with area restrictions in the Gulf of Alaska, Bering Sea, and Aleutian Islands. The Vessel Monitoring System (VMS) allows the NMFS Office for Law Enforcement to monitor and survey vessels over vast expanses of open-water while maintaining the confidentiality of fishing positions. The VMS is required under certain conditions in the following fisheries: Atka Mackerel, Pollock, Pacific Cod, BSAI Crab, essential fish habitat (EFH) and habitat areas of particular concern (HAPC) in the Aleutian Islands and Gulf of Alaska. The VMS unit is passive and automatic, requiring no reporting effort of the vessel operator.

Affected Public: Business or other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 6, 2009.
Gwellnar Banks,
Management Analyst, Office of the Chief Information Officer.

[FR Doc. E9-27184 Filed 11-10-09; 8:45 am]

BILLING CODE 3510-22-P